COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities, and deletes service(s) previously furnished by such agencies.

DATES: Comments must be received on or before: May 9, 2021.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the service(s) listed below from nonprofit agencies employing persons who are blind or have other severe disabilities.

The following service(s) are proposed for addition to the Procurement List for production by the nonprofit agencies listed:

Service(s)

Service Type: Facility Support Services.

Mandatory for: U.S. Geological Survey, Western Fisheries Research Center—Marrowstone Marine Field Station, Nordland, WA.

Designated Source of Supply: Skookum Educational Programs, Bremerton, WA.

Contracting Activity: U.S. GEOLOGICAL SURVEY, OFFICE OF ACQUISITON GRANTS.

Service Type: Custodial and Grounds Maintenance Services.

Mandatory for: U.S. Customs and Border Protection, U.S. Border Patrol-San Diego Sector, Chula Vista, CA.

Designated Source of Supply: Bona Fide Conglomerate, Inc., El Cajon, CA.

Contracting Activity: U.S. CUSTOMS AND BORDER PROTECTION, BORDER ENFORCEMENT CTR DIV.

Service Type: Custodial Service.

Mandatory for: U.S. Customs and Border Protection, Port of Boise, Boise, ID.

Designated Source of Supply: WITCO, Inc., Caldwell, ID.

Contracting Activity: U.S. CUSTOMS AND BORDER PROTECTION, BORDER ENFORCEMENT CTR DIV.

Deletions

The following service(s) are proposed for deletion from the Procurement List:

Service(s)

Service Type: Mailroom Operation.

Mandatory for: U.S. Army Corps of Engineers, Portland District Headquarters and Northwestern Division Headquarters, Portland, OR.

Designated Source of Supply: Relay Resources, Portland, OR.

Contracting Activity: DEPT OF THE ARMY, W071 ENDIST PORTLAND.

Service Type: Mail and Messenger Service.

Mandatory for: U.S. Army Corps of Engineers, Portland, OR.

Designated Source of Supply: Relay Resources, Portland, OR.

Contracting Activity: DEPT OF THE ARMY, W071 ENDIST PORTLAND.

Michael R. Jurkowski,
Deputy Director, Business & PL Operations.

[FR Doc. 2021-07339 Filed 4-8-21; 8:45 am]

BILLING CODE 6353-01-P